DEPARTMENT OF COMMERCE

National Oceanic and Atmospheric Administration

[Docket No.: 100706289-0289-01]

National Weather Service (NWS) Strategic Plan, 2011-2020

AGENCY: National Weather Service, National Oceanic and Atmospheric Administration, Department of Commerce.

ACTION: Notice; request for comments.

SUMMARY: The National Weather Service's (NWS) Strategic Plan (the Plan) for 2011-2020 sets the course for the agency's mission, a vision of the future, the societal outcomes that NWS aims to realize, and the actions the agency must take. The Plan establishes the framework to better meet the needs of Americans and to respond to some of the Nation's most urgent challenges. The Plan derives from NOAA's Next Generation Strategic Plan and is the result of a collaborative endeavor among employees, NOAA and NWS management, and private sector, research and operations partners. NWS invites comments on the contents of Plan, including mission statement, vision of the future, goals, objectives, and strategies.

DATES: The public comment period is open from July 27, 2010 through September 6, 2010. All comments must be submitted by the close of business on September 7, 2010.

ADDRESSES: Submit comments via the following methods:

• NWS Web site: (http://www.weather.gov/com/stratplan).

• Mail: National Oceanic and Atmospheric Administration, National Weather Service, Strategic Planning and Policy (W/SP), 1325 East-West Highway, Room 18234, Silver Spring, Maryland 20910.

• E-mail comments to nws.great.ideas@noaa.gov.

NWS prefers that reviewers submit comments online via the NWS Web site, http://www.weather.gov/com/stratplan, where reviewers may post general comments on the plan, comment on a particular section, as well as vote on the comments posted by others. This method will help NWS understand which aspects of the plan deserve the most attention in developing a final version.

FOR FURTHER INFORMATION CONTACT: Marie Lovern, NWS Office of the Assistant Administrator, at marie.lovern@noaa.gov or (301) 713-0611 x170.

SUPPLEMENTARY INFORMATION: You may view the Plan in its entirety at: http://www.weather.gov/com/stratplan.

Summary of the Plan:

The NWS has played a key role in protecting American lives and properties for over a century. The timely provision of reliable weather, water, climate, and environmental information has supported the Nation's social and economic development. NWS offices in communities across the U.S. and its territories, supported by regional and national centers, provide the authoritative information needed by Americans, including national, regional, state, tribal and local authorities, to plan, prepare, mitigate, and respond to natural and human-caused events. NWS views a diverse and growing environmental information services industry-the companies, media outlets, and others that create weather programming, provide consulting services, and deliver information to American society-as a strategic partner.

The NWS is part of the Department of Commerce's National Oceanic and Atmospheric Administration (NOAA), an agency with a diverse mission to understand and communicate changing conditions in the weather, climate, oceans, and coasts, and use that understanding to manage natural resources, including managing the Nation's fisheries and supporting healthy coastal habitats and species. NWS expertise in weather, water, and climate prediction, contributes to NOAA-wide initiatives such as air and water quality forecasts and ecological prediction and monitoring. NOAA's commitment to science, service, and stewardship informs society to respond and adapt to environmental conditions within a changing and uncertain world. New and evolving needs from society call for a shift in the way NWS forecasts and warns to provide impact-based decision support services. This means NWS must place an increasing emphasis on weather-related events, which significantly affect people, their livelihoods and the economy. NWS must go beyond producing accurate forecasts and timely warnings to better understand and anticipate the likely human and economic impacts of such events. NWS must enable users to better exploit NWS information to plan and take preventive actions so people remain safe, reduce damage to their communities, businesses, and the environment, and maximize their economic productivity.

Scientific and technical advancements are essential enablers for providing impact-based decision support. Most notably, NWS is planning a four-dimensional environmental database, or 4D Cube, and associated forecaster tools that will transform operations by integrating weather, water, climate, and environmental observations, forecasts, and decision-making into a network-enabled, continuously updated “virtual” repository. The result will be a common, nationally-consistent, real-time weather picture, allowing forecasters to easily analyze forecast challenges, monitor uncertainty, and make prognoses. The forecast team will be at the center of the information system producing and delivering information to enable decisions that affect societal outcomes. Linking social and physical sciences to produce and communicate information will be critical to NWS success. Next generation observations, Earth system models at all possible spatial and temporal scales, and advanced technologies will be enablers, extending capabilities to increasingly warn-on-forecast and to quantify forecast uncertainty. These measures will extend the window America has to prepare for weather-related events that impact society.

The NWS and NOAA employees and partners across the public, private, and academic communities are vital to the success of impact-based decision support. NWS will develop strategies and commit resources to train the workforce beyond weather, water, and climate sciences to be better communicators and interpreters of NWS information, and to understand the risks and impacts of forecasts. NWS must recruit world-class physical scientists, meteorologists, and hydrologists who have communication, social science, and information technology skills, and also recruit and partner with experts in other disciplines: economists, behavioral scientists, ecologists, oceanographers, engineers, health experts, and the like. NWS intends to better leverage expertise and resources of partners in the public and private sectors.

The NWS Strategic Plan for 2011-2010 describes the following long-term, mutually supportive goals which contribute to outcomes for society:

○ Improve weather decision services for events that threaten safety, health, the environment, economic productivity, or homeland security;

○ Deliver a broader suite of improved water services to support management of the Nation's water supply;

○ Enhance climate services to help communities, businesses, and governments understand and adapt to climate-related risks;

○ Improve sector-relevant information in support of economic productivity;

○ Enable integrated environmental services supporting healthy communities and ecosystems; and

○ Sustain a highly-skilled, professional workforce equipped with the training, tools, and infrastructure to meet the mission.

In order to help NWS develop its Strategic Plan, the NWS invites comments from the public on the contents of Plan, including mission statement, vision of the future, goals, objectives, and strategies.

Dated: July 22, 2010.
David Murray,
Director, Management and Organization Division, Office of the Chief Financial Officer, NWS.

[FR Doc. 2010-18383 Filed 7-26-10; 8:45 am]

BILLING CODE 3510-KE-P